DEPARTMENT OF HOUSING AND URBAN DEVELOPMENT

[Docket No. FR-5561-D-01]

Designation of Chief Acquisition Officer and Senior Procurement Executive and Delegation of Procurement Authority

AGENCY: Office of the Secretary, HUD.

ACTION: Notice of designation of Chief Acquisition Officer and Senior Procurement Executive and delegation of procurement authority.

SUMMARY: In this notice, the Secretary of HUD designates the Deputy Secretary as the Chief Acquisition Officer, the Chief Procurement Officer as the Senior Procurement Executive, and delegates all procurement authority to the Chief Procurement Officer.

DATES: Effective Date: August 19, 2011.

FOR FURTHER INFORMATION CONTACT: Elie F. Stowe, Assistant Chief Procurement Officer for Policy and Systems, Office of the Chief Procurement Officer, Department of Housing and Urban Development, 451 7th Street, SW., Room 5276, Washington, DC 20410-3000, telephone number 202-708-0294 (this is not a toll-free number). Persons with hearing or speech impairments may access this number through TTY by calling the toll-free Federal Relay Service at 800-877-8339.

SUPPLEMENTARY INFORMATION: This notice includes the Department's designations of the Chief Acquisition Officer and Senior Procurement Executive, and delegations of procurement authority to the Chief Procurement Officer. Previously, the delegations and redelegations were set forth in separate Federal Register notices. In addition, this notice revises the current delegations to clarify that the Chief Procurement Officer may redelegate authority for simplified acquisitions using the Government Purchase Card. Under prior notices, the Chief Procurement Officer had redelegated to the Department's Commercial Credit Card Program Administrator authority for credit card purchases within the micro-purchase threshold established in Federal Acquisition Regulation (FAR) part 13 and authority to further redelegate such authority to credit card holders. This notice removes the Commercial Credit Card Program Administrator's authority to further redelegate this authority.

Accordingly, the Secretary hereby revokes, designates, and delegates as follows:

Section A. Designation of Chief Acquisition Officer

1. The Deputy Secretary is designated to serve as the Department's Chief Acquisition Officer. Functions of the Chief Acquisition Officer are outlined at 41 U.S.C. 414. If the Deputy Secretary position is vacant, the Senior Procurement Executive will perform all of the duties and functions of the Chief Acquisition Officer.

2. The authority of the Chief Acquisition Officer includes the authority to redelegate the duties and functions of the Chief Acquisition Officer.

Section B. Designation of Senior Procurement Executive

1. The Chief Procurement Officer is designated as the Department's Senior Procurement Executive.

2. The Senior Procurement Executive shall report directly to the Deputy Secretary without intervening authority for all procurement-related matters.

3. The authority of the Senior Procurement Executive includes the authority to redelegate the duties and functions of the Senior Procurement Executive.

Section C. Delegation of Authority to Chief Procurement Officer

1. The Chief Procurement Officer is delegated the authority to exercise all duties, responsibilities, and powers of the Secretary with respect to departmental procurement activities. The authority delegated to the Chief Procurement Officer includes the following duties, responsibilities, and powers:

a. Authority to enter into, administer, and/or terminate all procurement contracts (as well as interagency agreements entered into under the authority of the Economy Act), for property and services required by the Department, and make related determinations and findings;

b. Authority to order the sanctions of debarment, suspension, and/or limited denial of participation pursuant to 48 CFR 2409.7001 and 2 CFR part 2424;

c. Responsibility for procurement program development, including:

(1) Implementation of procurement initiatives, best practices, and reforms;

(2) In coordination with the Office of Federal Procurement Policy, determination of specific areas where governmentwide performance standards should be established and applied, and development of governmentwide procurement policies, regulations, and standards;

(3) Establishment and maintenance of an evaluation program for all procurement activities within the Department;

(4) Development of programs to enhance the professionalism of the Department's procurement workforce, including the establishment of educational, training, and experience requirements for procurement personnel; and

(5) Development of all departmental procurement policy, regulations, and procedures.

2. The Chief Procurement Officer is authorized to issue rules and regulations as may be necessary to carry out the authority delegated under this Section C.

3. The Chief Procurement Officer may redelegate:

a. The procurement authority in C.1.a herein to qualified personnel within the Office of the Chief Procurement Officer.

b. Limited purchasing authority to other qualified departmental employees, as follows:

(1) Simplified acquisitions (FAR Part 13), including the Government Purchase Card purchases; and

(2) Issuance of delivery and task orders under contracts established by other Government sources in accordance with FAR Part 8, or under prepriced indefinite-delivery contracts established by the Department.

4. All redelegations of procurement authority shall be made by way of contracting officer Certificates of Appointment that clearly define the limits of the delegated authority.

Section D. No Authority to Redelegate

The authorities in Section C that may be redelegated from the Chief Procurement Officer do not include the authority to further redelegate.

Section E. Authority Superseded

This designation and delegation of authority supersedes all previous designations concerning the Chief Acquisition Officer and Senior Procurement Executive, and supersedes all previous delegations of authority to the Chief Procurement Officer.

Authority: 41 U.S.C. 414; Section 7(d) of the Department of Housing and Urban Development Act (42 U.S.C. 3535(d)).

Dated: August 19, 2011.
Shaun Donovan,
Secretary.

[FR Doc. 2011-22186 Filed 8-29-11; 8:45 am]

BILLING CODE 4610-67-P